UNITED STATES SENTENCING COMMISSION

Proposed Priorities for Amendment Cycle

AGENCY: United States Sentencing Commission.

ACTION: Notice; Request for public comment.

SUMMARY: As part of its statutory authority and responsibility to analyze sentencing issues, including operation of the federal sentencing guidelines, and in accordance with its Rules of Practice and Procedure, the United States Sentencing Commission is seeking comment on possible policy priorities for the amendment cycle ending May 1, 2026.

DATES: Public comment should be received by the Commission on or before July 18, 2025. Any public comment received after the close of the comment period may not be considered.

ADDRESSES: There are two methods for submitting public comment.

Electronic Submission of Comments. Comments may be submitted electronically via the Commission's Public Comment Submission Portal at https://comment.ussc.gov. Follow the online instructions for submitting comments.

Submission of Comments by Mail. Comments may be submitted by mail to the following address: United States Sentencing Commission, One Columbus Circle NE, Suite 2-500, Washington, DC 20002-8002, Attention: Public Affairs—Priorities Comment.

FOR FURTHER INFORMATION CONTACT: Jennifer Dukes, Senior Public Affairs Specialist, (202) 502-4597.

SUPPLEMENTARY INFORMATION: The United States Sentencing Commission is an independent agency in the judicial branch of the United States Government. The Commission promulgates sentencing guidelines and policy statements for federal courts pursuant to 28 U.S.C. 994(a). The Commission also periodically reviews and revises previously promulgated guidelines pursuant to 28 U.S.C. 994(o) and submits guideline amendments to the Congress not later than the first day of May each year pursuant to 28 U.S.C. 994(p).

The Commission provides this notice to identify possible policy priorities for the amendment cycle ending May 1, 2026. Other factors, such as legislation requiring Commission action, may affect the Commission's ability to complete work on any or all identified priorities by May 1, 2026. Accordingly, the Commission may continue work on any or all identified priorities after that date or may decide not to pursue one or more identified priorities.

Pursuant to 28 U.S.C. 994(g), the Commission intends to consider the issue of reducing costs of incarceration and overcapacity of prisons, to the extent it is relevant to any identified priority.

The Commission invites comment on the following proposed priorities for the amendment cycle ending May 1, 2026, including comment on any additional priorities commenters believe the Commission should consider in the upcoming amendment cycle and beyond, and comment proposing specific amendment text or research agendas that would address a given priority:

(1) Examination of how the guidelines can provide courts with additional guidance on selecting the appropriate sentencing option (e.g., imprisonment, probation, or fine), and possible consideration of amendments that might be appropriate.

(2) Further examination of the penalty structure for certain drug trafficking offenses under § 2D1.1 (Unlawful Manufacturing, Importing, Exporting, or Trafficking (Including Possession with Intent to Commit These Offenses)), including (A) consideration of possible amendments addressing the purity distinctions for methamphetamine provided in the Drug Quantity Table and related application notes; and (B) consideration of other miscellaneous issues pertaining to drug trafficking offenses coming to the Commission's attention, such as possible statutory changes relating to fentanyl.

(3) Examination of § 2B1.1 (Theft, Property Destruction, and Fraud) and related guidelines to ensure the guidelines appropriately reflect the culpability of the individual and the harm to the victim, including (A) reassessing the role of actual loss, intended loss, and gain; (B) considering whether the loss table in § 2B1.1 should be revised to simplify application or to adjust for inflation; (C) considering the application and impact of the victims table in § 2B1.1 and adjustments in Chapter Three, Part A (Victim-Related Adjustments), relating to victims; (D) considering the application and impact of adjustments in Chapter Three, Part B (Role in the Offense) relating to role in the offense; and (E) possible consideration of amendments that might be appropriate.

(4) Continued examination of the career offender guidelines, including (A) evaluating the impact, feasibility, and uniformity in application of alternative approaches to the “categorical approach” through workshops, field testing, and updating the data analyses set forth in the Commission's 2016 report to Congress, titled Career Offender Sentencing Enhancements; and (B) possible consideration of amendments that might be appropriate.

(5) Examination of whether the guidelines provide appropriate adjustments for good behavior, including examination of whether § 3E1.1 (Acceptance of Responsibility) and § 5K1.1 (Substantial Assistance to Authorities) fully account for the variety of ways in which an individual may manifest acceptance of responsibility and provide substantial assistance, and possible consideration of amendments that might be appropriate.

(6) Continued exploration of ways to simplify the Guidelines Manual, including (A) examining the operation of the grouping rules in Chapter Three, Part D (Multiple Counts); (B) examining the operation of specific provisions of Chapter Four, Part A (Criminal History); (C) examining the operation of § 5G1.3 (Imposition of a Sentence on a Defendant Subject to an Undischarged Term of Imprisonment or Anticipated State Term of Imprisonment); (D) evaluating infrequently applied specific offense characteristics and adjustments provisions throughout the Guidelines Manual; and (E) possible consideration of amendments that might be appropriate.

(7) Assessing the degree to which certain practices of the Bureau of Prisons are effective in meeting the purposes of sentencing as set forth in 18 U.S.C. 3553(a)(2) and considering any appropriate responses including possible consideration of recommendations or amendments.

(8) Implementation of any legislation warranting Commission action.

(9) Resolution of circuit conflicts as warranted, pursuant to the Commission's authority under 28 U.S.C. 991(b)(1)(B) and Braxton v. United States, 500 U.S. 344 (1991).

(10) Consideration of other miscellaneous issues coming to the Commission's attention.

Public comment should be sent to the Commission as indicated in the ADDRESSES section above.

Authority: 28 U.S.C. 994(a), (o); USSC Rules of Practice and Procedure 2.2, 5.2.

Carlton W. Reeves,
Chair.

[FR Doc. 2025-10556 Filed 6-10-25; 8:45 am]

BILLING CODE 2210-40-P